DEPARTMENT OF COMMERCE

International Trade Administration

[A-570-831]

Fresh Garlic from the People's Republic of China: Final Results of 2004-2005 Semi-Annual New Shipper Reviews

AGENCY: Import Administration, International Trade Administration, Department of Commerce.

SUMMARY: On May 4, 2006, the Department of Commerce (“the Department”) published the preliminary results of new shipper reviews of the antidumping duty order on fresh garlic from the People's Republic of China (“PRC”). See Fresh Garlic from the People's Republic of China: Preliminary Results of 2004-2005 Semi-Annual New Shipper Reviews, 71 FR 26322 (May 4, 2006) (“Preliminary Results”). The merchandise covered by this order is fresh garlic as described in the “Scope of the Order” section of this notice. The period of review (“POR”) is November 1, 2004, through April 30, 2005. We invited parties to comment on our Preliminary Results. We received no comments, and no new evidence was placed on the record to cause us to question that determination. Therefore, the final results are unchanged from those presented in the Preliminary Results. The final dumping margins for these reviews are listed in the “Final Results of the Reviews” section below.

EFFECTIVE DATE: July 18, 2006.

FOR FURTHER INFORMATION CONTACT: Ryan Douglas or Katharine Huang, AD/CVD Operations, Office 8, Import Administration, International Trade Administration, U.S. Department of Commerce, 14th Street and Constitution Avenue, NW, Washington, DC 20230; telephone: (202) 482-1277 and (202) 482-1271, respectively.

SUPPLEMENTARY INFORMATION:

Background

On May 4, 2006, the Department published the preliminary results of the 2004-2005 semi-annual new shipper reviews of fresh garlic from the PRC. See Preliminary Results. These new shipper reviews cover four respondents,¹ and the period November 1, 2004, through April 30, 2005. In the Preliminary Results, we invited parties to comment. We received no comments.

¹ The four respondents are Shandong Chengshun Farm Produce Trading Company, Ltd. (“Chengshun”), Shenzhen Fanhui Import and Export Co., Ltd. (“Fanhui”), Qufu Dongbao Import and Export Trade Co., Ltd. (“Dongbao”), and Anqiu Friend Food Co., Ltd. (“Anqiu Friend”). These new shipper reviews cover shipments of fresh garlic from the PRC that were produced by Jinxiang Chengsen Agricultural Trade Company, Ltd. (“CATC”) and exported by Chengshun, produced and exported by Fanhui, produced and exported by Dongbao, and produced and exported by Anqiu Friend.

Scope of the Order

The products subject to the antidumping duty order are all grades of garlic, whole or separated into constituent cloves, whether or not peeled, fresh, chilled, frozen, provisionally preserved, or packed in water or other neutral substance, but not prepared or preserved by the addition of other ingredients or heat processing. The differences between grades are based on color, size, sheathing, and level of decay.

The scope of this order does not include the following: (a) garlic that has been mechanically harvested and that is primarily, but not exclusively, destined for non-fresh use; or (b) garlic that has been specially prepared and cultivated prior to planting and then harvested and otherwise prepared for use as seed.

The subject merchandise is used principally as a food product and for seasoning. The subject garlic is currently classifiable under subheadings 0703.20.0010, 0703.20.0020, 0703.20.0090, 0710.80.7060, 0710.80.9750, 0711.90.6000, and 2005.90.9700 of the Harmonized Tariff Schedule of the United States (“HTSUS”). Although the HTSUS subheadings are provided for convenience and customs purposes, the written description of the scope of this order is dispositive. In order to be excluded from the antidumping duty order, garlic entered under the HTSUS subheadings listed above that is (1) mechanically harvested and primarily, but not exclusively, destined for non-fresh use or (2) specially prepared and cultivated prior to planting and then harvested and otherwise prepared for use as seed must be accompanied by declarations to U.S. Customs and Border Protection (“CBP”) to that effect.

Separate Rates

In our Preliminary Results, we preliminarily found that Chengshun, Fanhui, Dongbao, and Anqiu Friend had met the criteria for the application of a separate antidumping duty rate. See Preliminary Results, 71 FR at 26325. We have not received any information since the issuance of the Preliminary Results that provides a basis for reconsideration of these determinations.

Final Results of the Reviews

The Department has determined that the following final dumping margins exist for the period November 1, 2004, through April 30, 2005:

Exporter | Producer | Margin (percent)
Shandong Chengshun Farm Produce Trading Company, Ltd. | Jinxiang Chengsen Agricultural Trade Company, Ltd. | 0.00
Shenzhen Fanhui Import and Export Co., Ltd. | Shenzhen Fanhui Import and Export Co., Ltd. | 0.00
Qufu Dongbao Import and Export Trade Co., Ltd. | Qufu Dongbao Import and Export Trade Co., Ltd. | 0.00
Anqiu Friend Food Co., Ltd. | Anqiu Friend Food Co., Ltd. | 0.00

Duty Assessment and Cash-Deposit Requirements

The Department will determine, and CBP shall assess, antidumping duties on all appropriate entries. In accordance with 19 CFR 351.106(c)(2), we will instruct CBP to liquidate, without regard to antidumping duties, all entries of subject merchandise during the POR for which the importer- (or customer-) specific assessment rate is zero.

Bonding will no longer be permitted to fulfill security requirements for shipments of fresh garlic from the PRC produced by CATC and exported by Chengshun, produced and exported by Fanhui, produced and exported by Dongbao, and produced and exported by Anqiu Friend that are entered, or withdrawn from warehouse, for consumption on or after the publication date of the final results of these new shipper reviews. The following cash deposit requirements will be effective upon publication of the final results of these new shipper reviews for all shipments of subject merchandise from Chengshun, Fanhui, Dongbao, and Anqiu Friend entered, or withdrawn from warehouse, for consumption on or after the publication date, as provided by section 751(a)(2)(C) of the Act: (1) For subject merchandise produced by CATC and exported by Chengshun; produced and exported by Fanhui; produced and exported by Dongbao; or produced and exported by Anqiu Friend, the cash deposit rate will be zero; (2) for subject merchandise exported by Chengshun but not produced by CATC, the cash deposit rate will continue to be the PRC-wide rate (i.e., 376.67 percent); (3) for subject merchandise exported by Fanhui, Dongbao, or Anqiu Friend, but produced by any party other than itself, the cash deposit rate will be the PRC-wide rate (i.e., 376.67 percent); (4) for subject merchandise produced by Fanhui, Dongbao, or Anqiu Friend, but exported by any party other than itself, the cash deposit rate will be the PRC-wide rate (i.e., 376.67 percent); and (5) for subject merchandise produced by CATC but exported by any party other than Chengshun, the cash deposit rate will be the PRC-wide rate (i.e., 376.67 percent).

Notification of Interested Parties

This notice serves as a final reminder to importers of their responsibility under 19 CFR 351.402(f)(2) to file a certificate regarding the reimbursement of antidumping duties prior to liquidation of the relevant entries during the review period. Pursuant to 19 CFR 351.402(f)(3), failure to comply with this requirement could result in the Department's presumption that reimbursement of antidumping duties occurred and the subsequent assessment of doubled antidumping duties.

This notice also serves as a reminder to parties subject to administrative protective order (“APO”) of their responsibility concerning the disposition of proprietary information disclosed under APO as explained in the administrative protective order itself. Timely written notification of the return/destruction of APO materials or conversion to judicial protective order is hereby requested. Failure to comply with the regulations and the terms of an APO is a sanctionable violation.

We are issuing and publishing this notice in accordance with sections 751(a)(2)(B) and 777(i)(1) of the Act, 19 CFR 351.214(i)(1), and 19 CFR 351.221(b)(5).

Dated: July 11, 2006.
David M. Spooner,
Assistant Secretary for Import Administration.

[FR Doc. E6-11290 Filed 7-17-06; 8:45 am]

BILLING CODE 3510-DS-S